DEPARTMENT OF COMMERCE

International Trade Administration

[A-570-967]

Aluminum Extrusions From the People's Republic of China: Final Results of Antidumping Duty Administrative Review; 2019-2020

AGENCY: Enforcement and Compliance, International Trade Administration, Department of Commerce.

SUMMARY: The Department of Commerce (Commerce) determines that sales of aluminum extrusions from the People's Republic of China (China) were made at less than normal value (NV) during the period of review (POR) May 1, 2019, through April 30, 2020.

DATES: Applicable February 8, 2022.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On August 6, 2021, Commerce published the Preliminary Results and invited interested parties to comment.¹ These final results cover 87 companies for which an administrative review was initiated and not rescinded. On September 7, 2021, the following parties submitted case briefs: (1) Kingtom Aluminio S.R.L. (Kingtom); ² (2) Global Aluminum Distributor, LLC; ³ and (3) JL Trading Corp., Puertas Y Ventanas JM Inc., and Industrias Feliciano Al Inc.⁴ Additionally, on September 7, 2021, Hialeah Aluminum Supply, Inc. and Classic Metals Suppliers Corp. filed a letter in lieu of a case brief.⁵ On September 16, 2021, the Aluminum Extrusions Fair Trade Committee (the petitioner) submitted a rebuttal brief.⁶ On November 17, 2021, Commerce extended the deadline for these final results until February 2, 2022.⁷ Commerce conducted this review in accordance with section 751(a)(1)(B) of the Tariff Act of 1930, as amended (the Act).

¹ See Aluminum Extrusions from the People's Republic of China: Preliminary Results of Antidumping Duty Administrative Review and Rescission of Review, in Part; 2019-2020, 86 FR 43168 (August 6, 2021) (Preliminary Results), and accompanying Preliminary Decision Memorandum (PDM).

² See Kingtom's Letter, “Case Brief of Kingtom Aluminio S.R.L.,” dated September 7, 2021.

³ See Global Aluminum Distributor, LLC's Letter, “Aluminum Extrusions from the People's Republic of China; A-570-967; Case Brief,” dated September 7, 2021.

⁴ See JL Trading Corp., Puertas Y Ventanas JM Inc., and Industrias Feliciano Al Inc.'s Letter, “Aluminum Extrusions from the People's Republic of China: Case Brief,” dated September 7, 2021.

⁵ See Hialeah Aluminum Supply, Inc. and Classic Metals Suppliers Corp.'s Letter, “Aluminum Extrusions from China; Letter in Lieu of Case Brief,” dated September 7, 2021.

⁶ See Petitioner's Letter, “Aluminum Extrusions from the People's Republic of China: Rebuttal Brief,” dated September 16, 2021.

⁷ See Memorandum, “Aluminum Extrusions from the People's Republic of China, 2019-2020: Extension of Deadline for Final Results of Antidumping Duty Administrative Review,” dated November 17, 2021.

A complete summary of the events that occurred since publication of the Preliminary Results, as well as a full discussion of the issues raised by parties for these final results, may be found in the Issues and Decision Memorandum.⁸ The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

⁸ See Memorandum, “Issues and Decisions Memorandum for the Final Results of the Antidumping Duty Administrative Review: Aluminum Extrusions from the People's Republic of China; 2019-2020,” dated concurrently with, and hereby adopted by, this notice (Issues and Decision Memorandum).

Scope of the Order ⁹

⁹ See Aluminum Extrusions from the People's Republic of China: Antidumping Duty Order, 76 FR 30650 (May 26, 2011) (Order).

The merchandise covered by the Order is aluminum extrusions, which are shapes and forms, produced by an extrusion process, made from aluminum alloys having metallic elements corresponding to the alloy series designations published by The Aluminum Association commencing with the numbers 1, 3, and 6 (or proprietary equivalents or other certifying body equivalents). A full description of the scope of the Order is contained in the Issues and Decision Memorandum.

Analysis of Comments Received

All issues raised in the case and rebuttal briefs filed by parties in this review are addressed in the Issues and Decision Memorandum. A list of the issues that parties raised and that we addressed in the Issues and Decision Memorandum follows as an appendix to this notice.

Changes Since the Preliminary Results

Based on a review of the record and comments received from interested parties regarding our Preliminary Results, we made no changes for these final results.

Separate Rates

In the Preliminary Results, we determined that none of the companies for which an administrative review was requested, and not withdrawn, was entitled to a separate rate. We therefore preliminarily determined that 85 companies listed in Appendix III of the Preliminary Results were not eligible for a separate rate in this administrative review.¹⁰ For these final results of review, we have made no changes to our preliminary separate rate analysis ¹¹ and continue to find that the 85 companies listed in Appendix II of this notice are not eligible for a separate rate in this administrative review.

¹⁰ See Preliminary Results, 86 FR 43171, and PDM at 15-17.

¹¹ Id.

China-Wide Entity

We continue to determine for these final results that the 85 companies listed in Appendix II are part of the China-wide entity in this administrative review.¹²

¹² See Issues and Decision Memorandum.

Commerce's policy regarding conditional review of the China-wide entity applies to this administrative review.¹³ Under this policy, the China-wide entity will not be under review unless a party specifically requests, or Commerce self-initiates, a review of the entity. Because no party requested a review of the China-wide entity in the instant review, and because Commerce did not self-initiate such a review, the entity is not under review, and the entity's current rate (i.e., 86.01 percent) ¹⁴ is not subject to change.

¹³ See Antidumping Proceedings: Announcement of Change in Department Practice for Respondent Selection in Antidumping Duty Proceedings and Conditional Review of the Nonmarket Economy Entity in NME Antidumping Duty Proceedings, 78 FR 65963, 65970 (November 4, 2013).

¹⁴ See Aluminum Extrusions from the People's Republic of China: Final Results of Antidumping Duty Administrative Review; 2017-2018, 84 FR 56164, 56165 (October 21, 2019).

Final Determination of No Shipments

In the Preliminary Results, Commerce determined that Anderson International and Sunvast Trade Shanghai did not have shipments of subject merchandise to the United States during the POR.¹⁵ As we received no information to contradict our preliminary determination of no shipments with respect to these two companies, we continue to find that they made no shipments of subject merchandise to the United States during the POR. Accordingly, we will issue appropriate instructions for these two companies that are consistent with our “automatic assessment” clarification.¹⁶

¹⁵ See Preliminary Results PDM at 11.

¹⁶ See Non-Market Economy Antidumping Proceedings: Assessment of Antidumping Duties, 76 FR 65694 (October 24, 2011) (Assessment Notice); see also “Assessment” section, below.

Adjustments for Countervailable Subsidies

Because no company established eligibility for an adjustment under section 777A(f) of the Act for countervailable domestic subsidies, for these final results, Commerce did not make an adjustment pursuant to section 777A(f) of the Act for countervailable domestic subsidies for separate-rate recipients. Furthermore, because the China-wide entity is not under review, we made no adjustment for countervailable export subsidies for the China-wide entity pursuant to section 772(c)(1)(C) of the Act.

Assessment

Pursuant to section 751(a)(2)(A) of the Act and 19 CFR 351.212(b), Commerce will determine, and U.S. Customs and Border Protection (CBP) shall assess, antidumping duties on all appropriate entries of subject merchandise in accordance with the final results of this review. Consistent with its recent notice,¹⁷ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). These final results of review shall be the basis for the assessment of antidumping duties on entries of merchandise under review and for future deposits of estimated duties, where applicable. Consistent with Commerce's assessment practice in non-market economy cases, where we have determined that an exporter under review had no shipments of subject merchandise, any suspended entries that entered under the exporter's case number (i.e., at that exporter's rate) will be liquidated at the China-wide rate.¹⁸

¹⁷ See Notice of Discontinuation of Policy to Issue Liquidation Instructions After 15 Days in Applicable Antidumping and Countervailing Duty Administrative Proceedings, 86 FR 3995 (January 15, 2021).

¹⁸ See Non-Market Economy Antidumping Proceedings: Assessment of Antidumping Duties, 76 FR 65694 (October 24, 2011).

Cash Deposit Requirements

The following cash deposit requirements will be effective upon publication of the final results of this administrative review for all shipments of the subject merchandise from China entered, or withdrawn from warehouse, for consumption on or after the publication date, as provided for by section 751(a)(2)(C) of the Act: (1) For previously investigated or reviewed Chinese and non-Chinese exporters not listed above that received a separate rate in a prior segment of this proceeding, the cash deposit rate will continue to be the exporter-specific rate published for the most-recently completed segment of this proceeding in which the exporter was reviewed; (2) for all Chinese exporters of subject merchandise which have not been found to be entitled to a separate rate, the cash deposit rate will be that established for the China-wide entity (3) for all non-Chinese exporters of subject merchandise which have not received their own rate, the cash deposit rate will be the rate applicable to the Chinese exporter that supplied that non-Chinese exporter (or, if unidentified, that of the China-wide entity); and (4) for the China-wide entity, the cash deposit rate will be 86.01 percent. These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to administrative protective order (APO) of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

Notification to Interested Parties

We are issuing and publishing this notice in accordance with sections 751(a)(1) and 777(i)(1) of the Act, and 19 CFR 351.221(b)(5).

Dated: February 2, 2022.
Lisa W. Wang,
Assistant Secretary for Enforcement and Compliance.

Appendix I—List of Topics Discussed in the Issues and Decision Memorandum

I. Summary

II. Background

III. Scope of the Order

IV. Discussion of the Issues

Comment 1: Enforce and Protect Act (EAPA) Determinations and Due Process

Comment 2: Separate Rate

V. Recommendation

Appendix II—Companies Not Entitled to a Separate Rate

1. Allpower Display Co., Ltd

2. Amidi Zhuhai

3. Beauty Sky Technology Co. Ltd

4. Changshu Changsheng Aluminum Products Co., Ltd

5. Chenming Industry and Commerce Shouguang Co., Ltd.

6. China International Freight Co. Ltd

7. China State Decoration Group Co., Ltd.

8. CRRC Changzhou Auto Parts Co. Ltd *

9. Custom Accessories Asia Ltd.

10. Everfoison Industry Ltd.

11. Foshan City Fangyuan Ceramic

12. Foshan City Nanhai Yongfeng Aluminum

13. Foshan City Top Deal Import and Export Co., Ltd.

14. Foshan Gold Bridge Import and Export Co. Ltd.

15. Foshan Golden Promise Import and Export Co., Ltd.

16. Foshan Guangshou Import and Export Co., Ltd.

17. Foshan Xingtao Aluminum Profile Co., Ltd.

18. Fujian Minfa Aluminum Inc.

19. Fujian Minfa Aluminum Co., Ltd.

20. Fuzhou Ruifuchang Trading Co., Ltd.

21. Fuzhou Sunmodo New Energy Equipment Co., Ltd.

22. Gebruder Weiss

23. Gold Bridge International

24. Grupo Emb

25. Grupo Europeo La Optica

26. Grupo Pe No Mato In

27. Guangdong Gaoming Guangtai Shicai

28. Guangdong Gaoxin Communication Equipment Industrial Co., Ltd.

29. Guangdong Golden China Economy

30. Guangdong Maoming Foreign Trade Enterprise Development Co.

31. Guangdong Taiming Metal Products Co., LTD.

32. Guangdong Victor Aluminum Co., Ltd.

33. Guangzhou Jintao Trade Company

34. Hangzhou Evernew Machinery & Equipment Co., Ltd.

35. Hangzhou Tonny Electric and Tools Co., Ltd.

36. Hefei Sylux Imp. & Exp. Co., Ltd.

37. Hong Kong Dayo Company, Ltd.

38. Huazhijie Plastic Products

39. Huiqiao International Shanghai

40. Ilshim Almax

41. Jer Education Technology

42. Jiangsu Weatherford Hongda Petroleum Equipment Co., Ltd.

43. Jiangsu Yizheng Haitian Aluminum Industrial

44. Jiang Yin Ming Ding Aluminum & Plastic Products Co., Ltd

45. Jilin Qixing Aluminum Industries Co., Ltd.

46. Jin Lingfeng Plastic Electrical Appliance

47. Kanal Precision Aluminum Product Co. Ltd.

48. Kingtom Aluminio SRL

49. Larkcop International Co Ltd

50. Ledluz Co Ltd

51. Liansu Group Co. Ltd

52. Links Relocations Beijing

53. Marshell International

54. Ningbo Deye Inverter Technology

55. Ningbo Hightech Development

56. Ningbo Winjoy International Trading

57. Orient Express Container

58. Ou Chuang Plastic Building Material (Zhejiang) Co., Ltd.

59. Pentagon Freight Service

60. Pro Fixture Hong Kong

61. Qingdao Sea Nova Building

62. Qingdao Yahe Imports and Exports

63. Sewon

64. Shandong Huajian Aluminum Industry

65. Shanghai EverSkill M&E Co., Ltd.

66. Shanghai Jingxin Logistics

67. Shanghai Ouma Crafts Co, Ltd.

68. Shanghai Phidix Trading

69. Sinogar Aluminum

70. Transwell Logistics Co., Ltd.

71. United Aluminum

72. Wanhui Industrial China

73. Wenzhou Yongtai Electric Co., Ltd.

74. Winstar Power Technology Limited

75. Wisechain Trading Ltd.

76. Wuxi Lotus Essence

77. Wuxi Rapid Scaffolding Engineering

78. Wuxi Zontai Int'l Corporation Ltd.

79. Xuancheng Huilv Aluminum Industry Co., Ltd.

80. Yekalon Industry Inc

81. Yonn Yuu Enterprise Co., Ltd.

82. Yuyao Royal Industrial

83. Zhejiang Guoyao Aluminum Co., Ltd.

84. Zhongshan Broad Windows and Doors and Curtain

85. ZL Trade Shanghai

[FR Doc. 2022-02639 Filed 2-7-22; 8:45 am]

BILLING CODE 3510-DS-P